DEPARTMENT OF COMMERCE

National Telecommunications and Information Administration

[Docket No. 17010523-7023-01]

RIN 0660-XC033

The Benefits, Challenges, and Potential Roles for the Government in Fostering the Advancement of the Internet of Things

AGENCY: National Telecommunications and Information Administration, U.S. Department of Commerce.

ACTION: Notice; Extension of Comment Period.

SUMMARY: In response to requests for additional time, the Department of Commerce is extending the closing deadline for submitting comments to a request for public comments entitled “The Benefits, Challenges, and Potential Roles for the Government in Fostering the Advancement of the Internet of Things.” 82 FR 4313 (Jan. 13, 2017). In the request for comment, the Department is seeking broad input from all interested stakeholders—including the private industry, researchers, academia, and civil society—on the issues and proposed approach, current initiatives, and next steps laid out in the green paper “Fostering the Advancement of the Internet of Things.” Through this notice, the Department extends the comment period to March 13, 2017.

DATES: Comments are due on March 13, 2017, at 5:00 p.m. Eastern Daylight Time (EDT).

ADDRESSES: Written comments may be submitted by email to iotrfc2017@ntia.doc.gov. Comments submitted by email should be machine-searchable and should not be copy-protected. Written comments also may be submitted by mail to the National Telecommunications and Information Administration, U.S. Department of Commerce, 1401 Constitution Avenue NW., Room 4725, Attn: IoT RFC 2016, Washington, DC 20230. Responders should include the name of the person or organization filing the comment, as well as a page number, on each page of their submissions. All comments received are a part of the public record and will generally be posted to http://www.ntia.doc.gov/category/internet-policy-task-force without change. All personal identifying information (e.g., name, address) voluntarily submitted by the commenter may be publicly accessible. Do not submit Confidential Business Information or otherwise sensitive or protected information. NTIA will also accept anonymous comments.

FOR FURTHER INFORMATION CONTACT: Travis Hall, National Telecommunications and Information Administration, U.S. Department of Commerce, 1401 Constitution Avenue NW., Room 4725, Washington, DC 20230; Telephone: (202) 482-3522; Email: thall@ntia.doc.gov. Please direct media inquiries to NTIA's Office of Public Affairs: (202) 482-7002.

SUPPLEMENTARY INFORMATION: Recognizing the vital importance of the Internet to U.S. innovation, prosperity, education, and civic and cultural life, the Department of Commerce (Department) has made it a top priority to encourage growth of the digital economy and ensure that the Internet remains an open platform for innovation. Thus, as part of the Department's Digital Economy Agenda, the National Telecommunications and Information Administration (NTIA) issued a green paper “Fostering the Advancement of the Internet of Things” that lays out an approach and areas of engagement for the Department's possible future work on the Internet of Things (IoT). Through the request for comments, NTIA seeks broad input from all interested stakeholders—including the private industry, researchers, academia, and civil society—on the issues and proposed approach, current initiatives, and next steps laid out in this paper. These comments will help inform Department leadership on possible future Department action regarding IoT. Instructions for commenters, including specific questions for discussion, are available in the original notice. 82 FR 4313 (Jan. 13, 2017), available at https://www.ntia.doc.gov/files/ntia/publications/fr_iot_notice_rfc_01132017.pdf.

The original deadline for submission of comments was February 27, 2017. With this notice, NTIA announces that the closing deadline for submission of comments has been extended until March 13, 2017, at 5:00 p.m. EDT.

Dated: February 21, 2017.
Kathy D. Smith,
Chief Counsel, National Telecommunications and Information Administration.

[FR Doc. 2017-03682 Filed 2-23-17; 8:45 am]

BILLING CODE 3510-60-P